DEPARTMENT OF COMMERCE

International Trade Administration

19 CFR Part 351

[Docket No. 250221-0016]

RIN 0625-AB25

Regulations Enhancing the Administration of the Antidumping and Countervailing Duty Trade Remedy Laws; Correction

AGENCY: Enforcement and Compliance, International Trade Administration, Department of Commerce.

ACTION: Final rule; correction.

SUMMARY: On December 16, 2024, the U.S. Department of Commerce (Commerce) issued a final rule amending its antidumping and countervailing duty regulations. However, certain regulatory language in the Code of Federal Regulations (CFR) was inadvertently deleted, an incorrect punctuation mark was used, and a letter was left off a word. This correction restores the deleted language to the relevant regulation and corrects the typographical errors.

DATES: Effective March 31, 2025.

FOR FURTHER INFORMATION CONTACT: Scott D. McBride, Associate Deputy Chief Counsel for Trade Enforcement and Compliance, or Jesus Saenz, Senior Attorney, at (202) 482-6292 or (202) 482-1823, respectively.

SUPPLEMENTARY INFORMATION: On December 16, 2024, Commerce published a final rule amending its antidumping and countervailing duty regulations. (89 FR 101694). In the proposed rule, Commerce indicated that it was amending the initial paragraph of 19 CFR 351.301(c)(1) to remove an outdated reference to § 351.204(d)(2) and replace it with new § 351.109(h)(2) (89 FR at 57322). No party commented on this change, and in the final rule Commerce adopted the same regulatory language as set forth in the proposed rule (89 FR at 101763). Due to an error in how the agency described the change in the rule's directions for revising the CFR, however, rather than simply changing the language of the initial paragraph, paragraphs (i), (ii), (iii), (iv), and (v) of § 351.301(c)(1) were deleted from the CFR. Those paragraphs provide necessary information including deadlines for questionnaire responses, supplemental questionnaire responses, and other submissions, and were never intended by Commerce to be removed from the regulation. Accordingly, this amendment corrects § 351.301(c)(1) and adds back in paragraphs (i) through (v).

In addition, in 351.109(c)(1) a comma was mistakenly used to separate two sentences instead of a period. Furthermore, § 351.301(c)(3)(i)(A) contained the word “schedule,” when in fact the intended word for the sentence was “scheduled.” This amendment corrects both typographical errors.

Pursuant to 5 U.S.C. 553(b)(B) and (d)(3), Commerce finds good cause to conclude that notice and public comment and the 30-day delay in the effective date are unnecessary and contrary to the public interest. As described above, the public already had an opportunity to comment on the Secretary's proposed edit to 351.301(c)(1), and no one commented on that change. Therefore, providing notice and opportunity for public comment on this correction is unnecessary. A 30-day delay in the effective date is unnecessary and contrary to the public interest because the agency is correcting a non-substantive error, the public was already provided prior notice and opportunity to comment, and the absence of paragraphs (i) through (v) from the provision is leading to unnecessary public confusion.

Because prior notice and opportunity for public comment and a 30-day delay in the effective date are not required for this rule by 5 U.S.C. 553, or any other law, the analytical requirements of the Regulatory Flexibility Act, 5 U.S.C. 601, et seq., are inapplicable.

List of Subjects in 19 CFR Part 351

Administrative practice and procedure, Antidumping, Business and industry, confidential business information, Countervailing duties, Investigations, Imports, Reporting and recordkeeping requirements.

Dated: March 25, 2025.
Christopher Abbott,
Deputy Assistant Secretary for Policy and Negotiations, performing the non-exclusive functions and duties of the Assistant Secretary for Enforcement and Compliance.

19 CFR part 351 is corrected by making the following correcting amendments:

PART 351—ANTIDUMPING AND COUNTERVAILING DUTIES

1. The authority citation for 19 CFR part 351 continues to read as follows:

Authority: 5 U.S.C. 301; 19 U.S.C. 1202 note; 19 U.S.C. 1303 note; 19 U.S.C. 1671 et seq.

2. In § 351.109, revise paragraph (c)(1) to read as follows:

§ 351.109 Selection of examined respondents; single-country subsidy rate; calculating an all-others rate; calculating rates for unexamined respondents; voluntary respondents.

* * * * *

(c) * * *

(1) In general. If the Secretary determines in an investigation or administrative review that it is not practicable to determine individual dumping margins or countervailable subsidy rates because of the large number of exporters or producers involved in the investigation or review, the Secretary may determine individual margins or rates for a reasonable number of exporters or producers. In accordance with sections 777 A(c)(2) and 777 A(e)(2)(A) of the Act, the Secretary will normally limit the examination to either a sample of exporters or producers that the Secretary determines is statistically valid based on record information or exporters and producers accounting for the largest volume of the subject merchandise from the exporting country that the Secretary determines can be reasonably examined.

3. In § 351.301 revise paragraphs (c)(1) and (c)(3)(i)(A) to read as follows:

§ 351.301 Time limits for submission of factual information.

* * * * *

(c) * * *

(1) Factual information submitted in response to questionnaires. During a proceeding, the Secretary may issue to any person questionnaires, which includes both initial and supplemental questionnaires. The Secretary will not consider or retain in the official record of the proceeding unsolicited questionnaire responses, except as provided under § 351.109(h)(2), or untimely filed questionnaire responses. The Secretary will reject any untimely filed or unsolicited questionnaire response and provide, to the extent practicable, written notice stating the reasons for rejection (see § 351.302(d)).

(i) Initial questionnaire responses are due 30 days from the date of receipt of such

questionnaire. The time limit for response to individual sections of the questionnaire, if the Secretary requests a separate response to such sections, may be less than the 30 days allotted for response to the full questionnaire. In general, the date of receipt will be considered to be seven days from the date on which the initial questionnaire was transmitted.

(ii) Supplemental questionnaire responses are due on the date specified by the Secretary.

(iii) A notification by an interested party, under section 782(c)(1) of the Act, of difficulties in submitting information in response to a questionnaire issued by the Secretary is to be submitted in writing within 14 days after the date of the questionnaire or, if the questionnaire is due in 14 days or less, within the time specified by the Secretary.

(iv) A respondent interested party may request in writing that the Secretary conduct a questionnaire presentation. The Secretary may conduct a questionnaire presentation if the Secretary notifies the government of the affected country and that government does not object.

(v) Factual information submitted to rebut, clarify, or correct questionnaire responses. Within 14 days after an initial questionnaire response and within 10 days after a supplemental questionnaire response has been filed with the Department, an interested party other than the original submitter is permitted one opportunity to submit factual information to rebut, clarify, or correct factual information contained in the questionnaire response. Within seven days of the filing of such rebuttal, clarification, or correction to a questionnaire response, the original submitter of the questionnaire response is permitted one opportunity to submit factual information to rebut, clarify, or correct factual information submitted in the interested party's rebuttal, clarification or correction. The Secretary will reject any untimely filed rebuttal, clarification, or correction submission and provide, to the extent practicable, written notice stating the reasons for rejection (see § 351.302). If insufficient time remains before the due date for the final determination or final results of review, the Secretary may specify shorter deadlines under this section

* * * * *

(3) * * *

(i) Antidumping and countervailing duty investigations.

(A) All submissions of factual information to value factors of production under § 351.408(c) in an antidumping investigation are due no later than 60 days before the scheduled date of the preliminary determination.

* * * * *

[FR Doc. 2025-05481 Filed 3-27-25; 8:45 am]

BILLING CODE 3510-DS-P